DEPARTMENT OF HOMELAND SECURITY

U.S. Customs and Border Protection

[Docket No. USCBP-2020-0064]

Commercial Customs Operations Advisory Committee (COAC)

AGENCY: U.S. Customs and Border Protection (CBP), Department of Homeland Security (DHS).

ACTION: Committee Management; Notice of Federal Advisory Committee Meeting.

SUMMARY: The Commercial Customs Operations Advisory Committee (COAC) will hold its quarterly meeting on Wednesday, December 16, 2020. The meeting will be open to the public via webinar only. There is no on-site, in-person option for this quarterly meeting.

DATES: The COAC will meet on Wednesday, December 16, 2020, from 1:00 p.m. to 5:00 p.m. EST. Please note that the meeting may close early if the committee has completed its business. Comments must be submitted in writing no later than December 15, 2020.

ADDRESSES: The meeting will be held via webinar. The webinar link and conference number will be provided to all registrants by 10:00 a.m. EST on December 16, 2020. For information on facilities or services for individuals with disabilities or to request special assistance at the meeting, contact Ms. Florence Constant-Gibson, Office of Trade Relations, U.S. Customs and Border Protection, at (202) 344-1440, as soon as possible.

FOR FURTHER INFORMATION CONTACT: Ms. Florence Constant-Gibson, Office of Trade Relations, U.S. Customs and Border Protection, 1300 Pennsylvania Avenue NW, Room 3.5A, Washington, DC 20229; telephone (202) 344-1440; or Mr. Jon B. Perdue, Designated Federal Officer, at (202) 344-1440.

SUPPLEMENTARY INFORMATION: Notice of this meeting is given under the authority of the Federal Advisory Committee Act, 5 U.S.C. Appendix. The Commercial Customs Operations Advisory Committee (COAC) provides advice to the Secretary of Homeland Security, the Secretary of the Treasury, and the Commissioner of U.S. Customs and Border Protection (CBP) on matters pertaining to the commercial operations of CBP and related functions within the Department of Homeland Security and the Department of the Treasury.

Pre-registration: For members of the public who plan to participate via webinar, please register online at https://teregistration.cbp.gov/index.asp?w=213 by 5:00 p.m. EST by December 15, 2020. For members of the public who are pre-registered to attend the webinar and later need to cancel, please do so by December 15, 2020, utilizing the following link: https://teregistration.cbp.gov/cancel.asp?w=213.

Please feel free to share this information with other interested members of your organization or association.

To facilitate public participation, we are inviting public comment on the issues the committee will consider prior to the formulation of recommendations as listed in the Agenda section below.

Comments must be submitted in writing no later than December 15, 2020, and must be identified by Docket No. USCBP-2020-0064, and may be submitted by one (1) of the following methods:

• Federal eRulemaking Portal: http://www.regulations.gov. Follow the instructions for submitting comments.

• Email: tradeevents@cbp.dhs.gov. Include the docket number in the subject line of the message.

• Mail: Ms. Florence Constant-Gibson, Office of Trade Relations, U.S. Customs and Border Protection, 1300 Pennsylvania Avenue NW, Room 3.5A, Washington, DC 20229.

Instructions: All submissions received must include the words “Department of Homeland Security” and the docket number (USCBP-2020-0064) for this action. Comments received will be posted without alteration at http://www.regulations.gov. Please do not submit personal information to this docket.

Docket: For access to the docket or to read background documents or comments, go to http://www.regulations.gov and search for Docket Number USCBP-2020-0064. To submit a comment, click the “Comment Now!” button located on the top-right hand side of the docket page.

There will be multiple public comment periods held during the meeting on December 16, 2020. Speakers are requested to limit their comments to two (2) minutes or less to facilitate greater participation. Please note that the public comment period for speakers may end before the time indicated on the schedule that is posted on the CBP web page, http://www.cbp.gov/trade/stakeholder-engagement/coac.

Agenda

The COAC will hear from the current subcommittees on the topics listed below and then will review, deliberate, provide observations, and formulate recommendations on how to proceed:

1. The Secure Trade Lanes Subcommittee will present updates related to the four active working groups as follows: Trusted Trader Working Group will present recommendations on the newly issued CBP White Paper for the Implementation of CTPAT Trade Compliance Requirements for Forced Labor; the In-Bond Working Group will provide an update on the ongoing work with the technical enhancements that is being shared with the Trade Support Network; the Export Modernization Working Group will report on the progress of the development of the White Paper mentioned during the October COAC meeting and present additional recommendations; and, the Remote and Autonomous Cargo Processing Working Group will provide an update on the progress reviewing the various modes of conveyance and automation opportunities.

2. The Intelligent Enforcement Subcommittee will discuss the kickoff of the Intellectual Property Rights Process Modernization Working Group that will leverage prior recommendations by formulating recommendations to address automation and data sharing. The Bond Working Group will report on continued work with CBP on the Monetary Guidelines for Setting Bond Amounts as part of a larger risk-based bonding initiative. The Anti-Dumping and Countervailing Duty (AD/CVD) Working Group will report on their continued work with CBP related to the growing number of complex AD/CVD cases. The Forced Labor Working Group will report on progress toward prioritized recommendations and future scope of work.

3. The Next Generation Facilitation Subcommittee will provide an update on the progress of the One U.S. Government Working Group and work-to-date on the Global Business Identifier initiative. The subcommittee will also report on their progress with Partner Government Agencies regarding advancement in Trusted Trader initiatives. There will be an update by the Emerging Technologies Working Group regarding their assessment of various technologies such as quantum computing evaluated this past quarter that could be adapted for use by CBP and the trade. The subcommittee will provide an update on the 21st Century Customs Framework initiative.

4. The Rapid Response Subcommittee will discuss the work that has been done by the Broker Exam Modernization Working Group regarding resolving challenges encountered during the recent October exam and continuing efforts to modernize and improve the quality and experience of future broker exams.

Meeting materials will be available by December 14, 2020, at: http://www.cbp.gov/trade/stakeholder-engagement/coac/coac-public-meetings.

Dated: November 19, 2020.
Jon B. Perdue,
Executive Director, Office of Trade Relations.

[FR Doc. 2020-26039 Filed 11-24-20; 8:45 am]

BILLING CODE 9111-14-P